DEPARTMENT OF HOMELAND SECURITY

U.S. Customs and Border Protection

New Date for April 2010 Customs Brokers License Examination

AGENCY: Customs and Border Protection, Department of Homeland Security.

ACTION: General notice.

SUMMARY: This document announces that U.S. Customs and Border Protection (“CBP”) has changed the date on which the semi-annual written examination for an individual broker's license will be held in April 2010.

DATES: The customs broker's license examination scheduled for April 2010 will be held on Wednesday, April 7.

FOR FURTHER INFORMATION CONTACT: Russell Morris, Broker Compliance Branch, Office of International Trade, (202) 863-6543.

SUPPLEMENTARY INFORMATION:

Background

Section 641 of the Tariff Act of 1930, as amended (19 U.S.C. 1641), provides that a person (an individual, corporation, association, or partnership) must hold a valid customs broker's license and permit in order to transact customs business on behalf of others, sets forth standards for the issuance of broker's licenses and permits, and provides for the taking of disciplinary action against brokers that have engaged in specified types of infractions. In the case of an applicant for an individual broker's license, section 641 provides that an examination may be conducted to determine the applicant's qualifications for a license.

The regulations issued under the authority of section 641 are set forth in part 111 of title 19 of the Code of Federal Regulations (19 CFR part 111). Part 111 includes detailed rules regarding the licensing of, and granting of permits to, persons desiring to transact customs business as customs brokers. These rules include the qualifications required of applicants and the procedures for applying for licenses and permits. Section 111.11 (19 CFR 111.11) sets forth the basic requirements for a broker's license and, in paragraph (a)(4), provides that an applicant for an individual broker's license must attain a passing grade on a written examination taken within the 3-year period before submission of the license application prescribed under § 111.12 (19 CFR 111.12). Section 111.13 (19 CFR 111.13) sets forth the requirements and procedures for the written examination for an individual broker's license. Paragraph (b) of § 111.13 pertains to the date and place of the examination and states that written customs broker license examinations will be given on the first Monday in April and October unless the regularly scheduled examination date conflicts with a national holiday, religious observance, or other foreseeable event and U.S. Customs and Border Protection (“CBP”) publishes in the Federal Register appropriate notice of a change in the examination date.

CBP recognizes that the first Monday in April 2010 (April 5) coincides with the observance of Passover. In consideration of this conflict with Passover, CBP has decided to change the date of the examination pursuant to § 111.13(b). Accordingly, this document announces that CBP has scheduled the April 2010 examination for Wednesday, April 7.

Dated: January 26, 2010.
Daniel Baldwin,
Assistant Commissioner, Office of International Trade, U.S. Customs and Border Protection.

.

[FR Doc. 2010-2303 Filed 2-2-10; 8:45 am]

BILLING CODE 9111-14-P